DEPARTMENT OF DEFENSE

Office of the Secretary

Defense Science Board Task Force on Improving Fuel Efficiency of Weapons Platforms

ACTION: Notice of meeting.

SUMMARY: The Defense Science Board Task Force on Improving Fuel Efficiency of Weapons Platforms will meet in closed session on September 19-20, 2000, at the Massachusetts Institute of Technology, Amherst E40-55, Cambridge, MA 30332-0801.

The mission of the Defense Science Board is to advise the Secretary of the Defense and the Under Secretary of Defense for Acquisition and Technology on scientific and technical matters as they affect the perceived needs of the Department of Defense. At this meeting, The Task Force will review fuel-efficient technologies, including new or improved fuels, engines, Alternative Fueled Vehicles, and other advanced technologies and assess their operational, logistical, cost,and environmental impacts for a range of practical implementation scenarios.

Persons interested in further information should call Commander Brian D. Hughes, USN, at (703) 695-4157.

Dated: September 1, 2000.
L.M. Bynum,
Alternate OSD Federal Register Liaison Officer, Department of Defense.

[FR Doc. 00-23048 Filed 9-7-00; 8:45 am]

BILLING CODE 5001-10-M